DEPARTMENT OF HOMELAND SECURITY

Federal Emergency Management Agency

[Docket ID FEMA-2012-0003; Internal Agency Docket No. FEMA-B-1250]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 30, 2012.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1250, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at www.fema.gov/pdf/media/factsheets/2010/srp_fs.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
New London County, Connecticut (All Jurisdictions)
Maps Available for Inspection Online at: http://www.starr-team.com/starr/RegionalWorkspaces/RegionI/NewLondonCTcoastal/SitePages/Home.aspx
Borough of Stonington | Borough Hall, 26 Church Street, Stonington, CT 06378.
City of Groton | Municipal Building, 295 Meridian Street, Groton, CT 06340.
City of New London | City Hall, 181 State Street, New London, CT 06320.
Groton Long Point Association | 44 Beach Road, Groton Long Point, CT 06340.
Noank Fire District | Noank Fire District and Fire Station, 10 Ward Avenue, Noank, CT 06340.
Town of East Lyme | East Lyme Town Hall, 108 Pennsylvania Avenue, Niantic, CT 06357.
Town of Groton | Town Hall, 45 Fort Hill Road, Groton, CT 06340.
Town of Old Lyme | Memorial Town Hall, 52 Lyme Street, Old Lyme, CT 06371.
Town of Stonington | Town Hall, 152 Elm Street, Stonington, CT 06378.
Town of Waterford | Town Hall, 15 Rope Ferry Road, Waterford, CT 06385.
Androscoggin County, Maine (All Jurisdictions)
Maps Available for Inspection Online at: http://www.starr-team.com/starr/RegionalWorkspaces/RegionI/AndroscogginMEriverine/SitePages/Home.aspx
City of Auburn | Auburn Hall, 60 Court Street, Auburn, ME 04210.
City of Lewiston | City Hall, 27 Pine Street, Lewiston, ME 04240.
Town of Durham | Town Office, 630 Hallowell Road, Durham, ME 04222.
Town of Greene | Town Office, 220 Main Street, Greene, ME 04236.
Town of Leeds | Town Office, 8 Community Drive, Leeds, ME 04263.
Town of Lisbon | Town Office, 300 Lisbon Street, Lisbon, ME 04250.
Town of Livermore | Town Office, 10 Crash Road, Livermore, ME 04253.
Town of Livermore Falls | Town Office, 2 Main Street, Livermore Falls, ME 04254.
Town of Mechanic Falls | Town Office, 108 Lewiston Street, Mechanic Falls, ME 04256.
Town of Minot | Town Office, 329 Woodman Hill Road, Minot, ME 04258.
Town of Poland | Town Office, 1231 Maine Street, Poland, ME 04274.
Town of Sabattus | Town Office, 190 Middle Road, Sabattus, ME 04280.
Town of Turner | Town Office, 11 Turner Center Road, Turner, ME 04282.
Town of Wales | Town Office, 302 Centre Road, Wales, ME 04280.
Tate County, Mississippi, and Incorporated Areas
Maps Available for Inspection Online at: http://www.geology.deq.ms.gov/floodmaps/Projects/FY2009/
City of Senatobia | City Hall, 133 North Front Street, Senatobia, MS 38668.
Town of Coldwater | Coldwater Town Hall, 444 Court Street, Senatobia, MS 38618.
Unincorporated Areas of Tate County | Tate County Courthouse, 201 South Ward Street, Senatobia, MS 38668.
Medina County, Ohio, and Incorporated Areas
Maps Available for Inspection Online at: http://www.starr-team.com/starr/RegionalWorkspaces/RegionV/MedinaOH/Preliminary%20Maps/Forms/AllItems.aspx
City of Brunswick | City Engineer's Office, 4095 Center Road, Brunswick, OH 44212.
City of Medina | Planning Department, 132 North Elmwood Avenue, Medina, OH 44256.
Unincorporated Areas of Medina County | Medina County Engineering Center, 791 West Smith Road, Medina, OH 44256.
Village of Chippewa Lake | Medina County Engineering Center, 791 West Smith Road, Medina, OH 44256.
Village of Gloria Glens Park | Gloria Glens Park Village Hall, 7966 Lake Road, Chippewa Lake, OH 44215.
Village of Lodi | Village Hall, 108 Ainsworth Street, Lodi, OH 44254.
Village of Seville | Village Hall, 120 Royal Crest Drive, Seville, OH 44273.
Village of Westfield Center | Village Hall, 6701 Greenwich Road, Westfield Center, OH 44251.
Lackawanna County, Pennsylvania (All Jurisdictions)
Maps Available for Inspection Online at: https://www.rampp-team.com/pa.htm
Borough of Archbald | Municipal Building, 400 Church Street, Archbald, PA 18403.
Borough of Blakely | Blakely Borough Office, 1439 Main Street, Peckville, PA 18452.
Borough of Clarks Green | Borough Hall, 104 North Abington Road, Clarks Green, PA 18411.
Borough of Clarks Summit | Borough Office, 304 South State Street, Clarks Summit, PA 18411.
Borough of Dalton | Borough Office, 109 South Turnpike Road, Dalton, PA 18414.
Borough of Dickson City | Borough Building, 801 Boulevard Avenue, Dickson City, PA 18519.
Borough of Dunmore | Borough Building, 400 South Blakely Street, Dunmore, PA 18512.
Borough of Jermyn | Community Center, 440 Jefferson Avenue, Jermyn, PA 18433.
Borough of Jessup | Municipal Building, 395 Lane Street, Jessup, PA 18434.
Borough of Mayfield | Borough Building, 739 Penn Avenue, Mayfield, PA 18433.
Borough of Moosic | Borough Office, 715 Main Street, Moosic, PA 18507.
Borough of Moscow | Borough Building, 123 Van Brunt Street, Moscow, PA 18444.
Borough of Old Forge | Municipal Building, 310 South Main Street, Old Forge, PA 18518.
Borough of Olyphant | Municipal Building, 113 Willow Avenue, Olyphant, PA 18447.
Borough of Taylor | Borough Building, 122 Union Street, Taylor, PA 18517.
Borough of Throop | Municipal Building, 436 Sanderson Street, Throop, PA 18512.
Borough of Vandling | Vandling Borough Hall, 634 Main Street, Forest City, PA 18421.
City of Carbondale | City Hall, 1 North Main Street, Carbondale, PA 18407.
City of Scranton | City Hall, 340 North Washington Avenue, Scranton, PA 18503.
Township of Benton | Benton Township Municipal Building, Route 107, Fleetville, PA 18420.
Township of Carbondale | Carbondale Township Municipal Building, 103 School Street, Childs, PA 18407.
Township of Clifton | Municipal Building, 361 State Route 435, Clifton, PA 18424.
Township of Covington | Municipal Office, 20 Moffat Drive, Covington Township, PA 18444.
Township of Elmhurst | Municipal Building, 176 Main Street, Elmhurst, PA 18416.
Township of Fell | Fell Township Municipal Building, 1 Veterans Road, Simpson, PA 18407.
Township of Glenburn | Glenburn Township Municipal Building, 3110 Waterford Road, Dalton, PA 18414.
Township of Greenfield | Municipal Building, 424 Route 106, Greenfield Township, PA 18407.
Township of Jefferson | Jefferson Township Municipal Building, 487 Cortez Road, Lake Ariel, PA 18436.
Township of LaPlume | LaPlume Township Municipal Building, Route 611, 2080 Hickory Ridge Road, Factoryville, PA 18419.
Township of Madison | Municipal Building, 3200 Madisonville Road, Madison Township, PA 18444.
Township of Newton | Newton Township Municipal Building, 1528 Newton Ransom Boulevard, Clarks Summit, PA 18411.
Township of North Abington | North Abington Township Building, 100 Windmere Circle, Dalton, PA 18414.
Township of Ransom | Ransom Township Office, 2435 Hickory Lane, Clarks Summit, PA 18411.
Township of Roaring Brook | Township Office, 430 Blue Shutters Road, Roaring Brook Township, PA 18444.
Township of Scott | Joe Terry Civic Center, 1038 Montdale Road, Scott Township, PA 18447.
Township of South Abington | South Abington Township Office, 104 Shady Lane Road, Chinchilla, PA 18410.
Township of Springbrook | Township Building, 966 State Route 307, Spring Brook Township, PA 18444.
Township of Thornhurst | Township Building, River Road, Thornhurst, PA 18424.
Township of Waverly | Township Office, 1 Lake Henry Drive, Waverly, PA 18471.
Township of West Abington | West Abington Township Building, RR 3, Locust Road, Dalton, PA 18414.
Harrison County, Texas, and Incorporated Areas
Maps Available for Inspection Online at: http://www.riskmap6.com
City of Hallsville | City Hall, 115 West Main Street, Hallsville, TX 75650.
City of Longview | Development Services and Engineering Department, 410 South High Street, Longview, TX 75601.
City of Marshall | City Hall, 401 South Alamo Street, Marshall, TX 75670.
City of Waskom | City Hall, 430 West Texas Avenue, Waskom, TX 75692.
Town of Scottsville | Harrison County Environmental Health Department, Road and Bridge Building, 3800 Five Notch Road, Marshall, TX 75670.
Town of Uncertain | City Hall, 199 Cypress Drive, Uncertain, TX 75661.
Unincorporated Areas of Harrison County | Harrison County Environmental Health Department, Road and Bridge Building, 3800 Five Notch Road, Marshall, TX 75670.

(Catalog of Federal Domestic Assistance No. 97.022, “Flood Insurance.”)

Dated: April 18, 2012.
Sandra K. Knight,
Deputy Associate Administrator for Mitigation, Department of Homeland Security, Federal Emergency Management Agency.

[FR Doc. 2012-10280 Filed 4-27-12; 8:45 am]

BILLING CODE 9110-12-P